DEPARTMENT OF THE INTERIOR

Notice of Tribal Consultation Meetings

AGENCY: Office of the Special Trustee for American Indians, Interior.

ACTION: Notice of Tribal Consultation Meetings.

SUMMARY: Notice is hereby given of one-day Tribal Consultation Sessions to be held between the Department of the Interior, Office of the Special Trustee for American Indians (DOI/OST) and tribal governments interested in, or currently operating the real estate appraisal services program. The purpose of these consultation sessions is to discuss ideas in developing new tribal share allocation formulas (TSAFs) to be used to apportion funds to tribes that perform the appraisal program pursuant to Public Law 93-638 (the Indian Self-Determination and Education Assistance Act of 1975, as amended) [25 U.S.C. 450j-1(a)].

DATES: See SUPPLEMENTARY INFORMATION.

ADDRESSES: See SUPPLEMENTARY INFORMATION.

FOR FURTHER INFORMATION CONTACT: Debbie Meisner, Director Administrative Operations, Office of Appraisal Services at (505) 816-1318 or Debbie_Meisner@ost.doi.gov. Detailed information on the project background, schedule and locations will be posted on the DOI/OST Web site at http:// www.ost.doi.gov.

SUPPLEMENTARY INFORMATION: The Department of the Interior, Office of the Special Trustee for American Indians (DOI/OST) invites tribal government leaders to participate in a series of tribal consultation sessions.

Dates and Locations: The tribal consultation sessions will be held on the following dates and in the following locations:

(1) June 30, 2009 in Oklahoma City, OK.

(2) July 14, 2009 in Rapid City, SD.

(3) July 29, 2009 in Portland, OR.

(4) August 4, 2009 in Billings, MT.

(5) August 18, 2009 in Albuquerque, NM.

The purpose of the consultation sessions is to discuss ideas in developing new tribal share allocation formulas that will be used to apportion funds for tribes performing, or interested in performing, the appraisal program pursuant to Public Law 93-638 contracts and compacts. These formulas will ensure uniformity and transparency in determining tribal shares and funding residual for the inherent federal functions.

A report of each consultation session will be prepared and made available within 90 days of the consultation to all tribal governments that currently compact or contract the appraisal program. Tribes wishing to submit written testimony for the consultation report should send it to Debbie Meisner, Director Administrative Operations, Office of Appraisal Services at Debbie_Meisner@ost.doi.gov, either prior to the consultation session or by September 18, 2009. Please note that only written testimony submitted to DOI/OST will be included in the report, as an appendix. Testimony and comments made orally will be summarized in the report without attribution, along with topics of concern and recommendations.

Dated: June 10, 2009.
Margaret Williams,
Deputy Special Trustee/Trust Accountability.

[FR Doc. E9-14108 Filed 6-15-09; 8:45 am]

BILLING CODE 4310-2W-P